DEPARTMENT OF HOMELAND SECURITY

Coast Guard

33 CFR Part 117

[Docket No. USCG-2011-0625]

Drawbridge Operation Regulations; Navesink (Swimming) River, NJ

AGENCY: Coast Guard, DHS.

ACTION: Notice of temporary deviation from regulations.

SUMMARY: The Commander, First Coast Guard District, has issued a temporary deviation from the regulation governing the operation of the Oceanic Bridge at mile 4.5 across the Navesink (Swimming) River between Oceanic and Locust Point, New Jersey. The deviation is necessary to facilitate bridge rehabilitation. This deviation allows the bridge to open only one of the two moveable spans for the passage of vessel traffic.

DATES: This deviation is effective from October 31, 2011 through April 27, 2012.

ADDRESSES: Documents mentioned in this preamble as being available in the docket are part of docket USCG-2011-0625 and are available online at http://www.regulations.gov, inserting USCG-2011-0625 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil, or telephone (212) 668-7165. If you have questions on viewing the docket, call Renee V. Wright, Program Manager, Docket Operations, telephone 202-366-9826.

SUPPLEMENTARY INFORMATION: The Oceanic Bridge, across the Navesink (Swimming) River, mile 4.5, between Oceanic and Locust Point, New Jersey, has a vertical clearance in the closed position of 22 feet at mean high water and 24 feet at mean low water. The drawbridge operation regulations are listed at 33 CFR 117.734.

The vessel traffic that normally transits the bridge are seasonal recreational vessels.

The owner of the bridge, County of Monmouth New Jersey, requested a temporary deviation from the regulations to facilitate bridge rehabilitation repairs. During the bridge repairs only one moveable span can be opened for the passage of vessel traffic.

The navigation channel under the bridge provides 75 feet of horizontal clearance with unobstructed vertical clearance in the open position.

During this temporary deviation the horizontal clearance in the main channel will provide 37.5 feet of horizontal clearance keeping one moveable span in the closed position.

The Coast Guard believes that this temporary deviation meets the reasonable needs of navigation because the recreational users that normally use this bridge do not operate during the winter months when this deviation will be in effect and the 37.5 feet of horizontal clearance should be sufficient for the seasonal recreational vessel traffic that uses this waterway.

Under this temporary deviation the Oceanic Bridge may open only one of the two moveable spans for the passage of vessel traffic between October 31, 2011 and April 27, 2012.

Vessels that can pass under the bridge in the closed position may do so at any time.

In accordance with 33 CFR 117.35(e), the bridge must return to its regular operating schedule immediately at the end of the designated time period. This deviation from the operating regulations is authorized under 33 CFR 117.35.

Dated: September 19, 2011.
Gary Kassof,
Bridge Program Manager, First Coast Guard District.

[FR Doc. 2011-25177 Filed 9-29-11; 8:45 am]

BILLING CODE 9110-04-P